DEPARTMENT OF COMMERCE

International Trade Administration

[A-570-904]

Certain Activated Carbon From the People's Republic of China: Final Results of Antidumping Duty Administrative Review; 2014-2015

AGENCY: Enforcement and Compliance, International Trade Administration, Department of Commerce.

SUMMARY: For the final results of the administrative review of the antidumping duty order on certain activated carbon from the People's Republic of China, we find that sales were made at less than normal value. The period of review is April 1, 2014, through March 31, 2015. Based upon our analysis of the comments received, we made changes to the margin calculations for these final results of the antidumping duty administrative review. The final weighted-average dumping margins are listed below in the “Final Results of the Review” section of this notice.

DATES: Effective September 8, 2016.

FOR FURTHER INFORMATION CONTACT: Bob Palmer or Frances Veith, AD/CVD Operations, Office V, Enforcement and Compliance, International Trade Administration, Department of Commerce, 14th Street and Constitution Avenue NW., Washington, DC 20230; telephone: (202) 482-9068, or (202) 482-4295, respectively.

SUPPLEMENTARY INFORMATION:

Background

The Department of Commerce (“Department”) published the Preliminary Results ¹ on March 4, 2016. For events subsequent to the Preliminary Results, see the Department's final Issues and Decision Memorandum.² On June 13, 2016,³ in accordance with section 751(a)(3)(A) of the Tariff Act of 1930, as amended (“Act”), the Department extended the deadline for issuing the final results by 60 days. The deadline for the final results is August 31, 2016.

¹ See Certain Activated Carbon From the People's Republic of China: Preliminary Results of Antidumping Duty Administrative Review; 2014-2015, 81 FR 11513 (March 4, 2016), and accompanying Preliminary Decision Memorandum (“Preliminary Results”).

² See Memorandum to Paul Piquado, Assistant Secretary for Enforcement and Compliance, from Christian Marsh, Deputy Assistant Secretary for Antidumping and Countervailing Duty Operations, regarding “Certain Activated Carbon from the People's Republic of China: Issues and Decision Memorandum for the Final Results of the Eighth Antidumping Duty Administrative Review,” dated concurrently with and hereby adopted by this notice, (“Issues and Decision Memorandum”).

³ See Memorandum to Christian Marsh, Deputy Assistant Secretary, through James C. Doyle, Director, Office V, from Bob Palmer International Trade Compliance Analyst, Office V, regarding “Activated Carbon from the People's Republic of China: Extension of Deadline for Final Results of 2014-2015 Antidumping Duty Administrative Review,” dated June 13, 2016.

Verification

Pursuant to section 782(i) of the Tariff Act of 1930, as amended (the “Act”), and 19 CFR 351.307(b)(iv), we conducted verification of Jacobi's U.S. sales from March 29-30, 2016.⁴

⁴ See Memorandum to the File, through Catherine Bertrand, Program Manager, Office V, from Bob Palmer and Ryan Mullen, International Trade Compliance Analysts, Office V, “Verification of the Constructed Export Price (“CEP”) Sales Response of Jacobi Carbons AB in the Antidumping Duty Administrative Review of Certain Activated Carbon from the People's Republic of China,” dated April 5, 2016.

Scope of the Order

The merchandise subject to the Order ⁵ is certain activated carbon. The products are currently classifiable under the Harmonized Tariff Schedule of the United States (“HTSUS”) subheading 3802.1000. Although the HTSUS subheading is provided for convenience and customs purposes, the written description of the scope of the order remains dispositive.⁶

⁵ See Notice of Antidumping Duty Order: Certain Activated Carbon from the People's Republic of China, 72 FR 20988 (April 27, 2007) (“Order”).

⁶ See Issues and Decision Memorandum for a complete description of the Scope of the Order.

Analysis of Comments Received

In the Issues and Decision Memorandum, we addressed all issues raised in parties' case and rebuttal briefs. In Appendix I to this notice, we have provided a list of the issues raised by parties. The Issues and Decision Memorandum is a public document and is on file in the Central Records Unit (“CRU”), Room B8024 of the main Department of Commerce building, as well as electronically via Enforcement and Compliance's Antidumping and Countervailing Duty Centralized Electronic Service System (“ACCESS”). ACCESS is available to registered users at https://access.trade.gov and it is available to all parties in the CRU. In addition, parties can directly access a complete version of the Issues and Decision Memorandum on the Internet at http://enforcement.trade.gov/frn/index.html. The signed Issues and Decision Memorandum and the electronic version of the Issues and Decision Memorandum are identical in content.

Changes Since the Preliminary Results

Based on our review of the record and comments received from interested parties regarding our Preliminary Results, we have made certain revisions to the margin calculations for Jacobi, Datong Juqiang, and the non-examined, separate rate respondents.⁷ Further, the Surrogate Values Memo ⁸ contains descriptions of our changes to the surrogate values.

⁷ See Issues and Decision Memorandum and the company-specific analysis memoranda for further explanation regarding these changes.

⁸ See Memorandum to the File, through Catherine Bertrand, Program Manager, Office V, from Bob Palmer, Case Analyst, Office V, Certain Activated Carbon from the People's Republic of China (“PRC”): Surrogate Values for the Final Results,” dated concurrently with this notice (“Surrogate Values Memo”).

Final Determination of No Shipments

In the Preliminary Results, the Department preliminarily determined that Carbon Activated Tianjin Co. Ltd. had no shipments during the period of review (“POR”).⁹ We have received no information to contradict this determination. Therefore, the Department continues to determine that Carbon Activated Tianjin Co. Ltd. had no shipments of subject merchandise during the POR, and will issue appropriate liquidation instructions that are consistent with our “automatic assessment” clarification, for these final results.¹⁰

⁹ See Preliminary Determination at 11513.

¹⁰ See Non-Market Economy Antidumping Proceedings: Assessment of Antidumping Duties, 76 FR 65694 (October 4, 2011) (“Assessment Practice Refinement”).

Separate Rate Respondents

In our Preliminary Results, we determined that the following companies (including both mandatory respondents) met the criteria for separate rate status:

• Beijing Pacific Activated Carbon Products Co., Ltd.¹¹

¹¹ In the first administrative review, the Department found Beijing Pacific Activated Carbon Products Co., Ltd., Ningxia Guanghua Cherishmet Activated Carbon Co., Ltd., and Guanghua are a single entity and there is no information on the record to indicate the facts have changed. Therefore, we continue to treat these companies as a single entity. See Certain Activated Carbon From the People's Republic of China: Notice of Preliminary Results of the Antidumping Duty Administrative Review and Extension of Time Limits for the Final Results, 74 FR 21317 (May 7, 2009), unchanged in First Administrative Review of Certain Activated Carbon from the People's Republic of China: Final Results of Antidumping Duty Administrative Review, 74 FR 57995 (November 10, 2009) (“AR1 Carbon”); AR5 PRC Carbon Final, 78 FR at 70535; Certain Activated Carbon From the People's Republic of China: Final Results of Antidumping Duty Administrative Review; 2012-2013, 79 FR 70163, 70165 (November 26, 2013) at footnote 33.

• Calgon Carbon (Tianjin) Co., Ltd.;

• Datong Municipal Yunguang Activated Carbon Co., Ltd.;

• Datong Juqiang Activated Carbon Co., Ltd.;

• Jacobi Carbons AB; Jilin Bright Future Chemicals Company, Ltd.;

• Ningxia Guanghua Activated Carbon Co., Ltd. (“Guanghua”);

• Ningxia Guanghua Cherishmet Activated Carbon Co., Ltd.;

• Ningxia Huahui Activated Carbon Co., Ltd.;

• Ningxia Mineral & Chemical Limited;

• Shanxi Dapu International Trade Co., Ltd.;

• Shanxi DMD Corporation;

• Shanxi Industry Technology Trading Co., Ltd.;

• Shanxi Sincere Industrial Co., Ltd.;

• Shanxi Tianxi Purification Filter Co., Ltd.;

• Sinoacarbon International Trading Co., Ltd.;

• Tancarb Activated Carbon Co., Ltd.;

• Tianjin Channel Filters Co., Ltd.; and

• Tianjin Maijin Industries Co., Ltd.¹²

¹² See Preliminary Results, 81 FR 11514; Preliminary Decision Memorandum at 6-11.

We have received no comments or argument since the issuance of the Preliminary Results that provides a basis for reconsideration of these determinations. Therefore, the Department continues to find that the companies listed above meet the criteria for a separate rate.

Rate for Non-Examined Separate Rate Respondents

In the Preliminary Results,¹³ and consistent with the Department's practice,¹⁴ we assigned the non-examined, separate rate companies a rate equal to the weighted average of the calculated weighted-average dumping margins for the mandatory respondents that are not zero, de minimis (i.e., less than 0.5 percent) or based entirely on facts available, weighted by the total U.S. sales quantities from the public version of the submissions from the mandatory respondents.¹⁵ No parties commented on the methodology for calculating this separate rate. For the final results, we continue to apply this approach, as it is consistent with the intent of section 735(c)(5)(A) of the Act and our use of section 735(c)(5)(A) of the Act.¹⁶

¹³ See Preliminary Decision Memorandum at 10-11.

¹⁴ See Certain Frozen Warmwater Shrimp From the Socialist Republic of Vietnam: Final Results and Final Partial Rescission of Antidumping Duty Administrative Review, 76 FR 56158, 56160 (September 12, 2011) (“Vietnam Shrimp”).

¹⁵ See Jacobi's public version of its supplemental Section A questionnaire response, dated July 31, 2015, at Exhibit A-1; see also Datong Juqiang's Public Version of Exhibit A-1 for the Section A Response, dated July 20, 2015.

¹⁶ See Vietnam Shrimp, 76 FR at 56160.

Final Results of the Review

For companies subject to this review, which established their eligibility for a separate rate, the Department determines that the following weighted-average dumping margins exist for the POR from April 1, 2014, through March 31, 2015:

Exporter | Weighted- average dumping margin (USD/kg) ¹⁷
Jacobi Carbons AB ¹⁸ | 1.756
Datong Juqiang Activated Carbon Co., Ltd | 0.020
Calgon Carbon (Tianjin) Co., Ltd | 1.357
Datong Municipal Yunguang Activated Carbon Co., Ltd | 1.357
Jilin Bright Future Chemicals Company, Ltd | 1.357
Ningxia Guanghua Cherishmet Activated Carbon Co., Ltd ¹⁹ | 1.357
Ningxia Huahui Activated Carbon Co., Ltd | 1.357
Ningxia Mineral and Chemical Limited | 1.357
Shanxi DMD Corporation | 1.357
Shanxi Dapu International Trade Co., Ltd | 1.357
Shanxi Industry Technology Trading Co., Ltd | 1.357
Shanxi Sincere Industrial Co., Ltd | 1.357
Shanxi Tianxi Purification Filter Co., Ltd | 1.357
Sinoacarbon International Trading Co., Ltd | 1.357
Tancarb Activated Carbon Co., Ltd | 1.357
Tianjin Channel Filters Co., Ltd | 1.357
Tianjin Maijin Industries Co., Ltd | 1.357

The Department finds that 181 companies for which a review was requested did not establish eligibility for a separate rate because they either failed to provide a timely response to a separate rate application (“SRA”), to a supplemental questionnaire, or did not file a SRA or a separate rate certification (“SRC”).²⁰ As such, we determine these companies, listed in Appendix II of this notice, to be part of the PRC-wide entity. Because no party requested a review of the PRC-wide entity and the Department no longer considers the PRC-wide entity as an exporter conditionally subject to administrative reviews,²¹ we did not conduct a review of the PRC-wide entity. Thus, the weighted-average dumping margin for the PRC-wide entity (i.e., 2.42 USD/kg) ²² is not subject to change as a result of this review.

¹⁷ In the second administrative review of the Order, the Department determined that it would calculate per-unit weighted-average dumping margins and assessment rates for all future reviews. See Certain Activated Carbon From the People's Republic of China: Final Results and Partial Rescission of Second Antidumping Duty Administrative Review, 75 FR 70208, 70211 (November 17, 2010).

¹⁸ In the third administrative review of the Order, the Department found that Jacobi Carbons AB, Tianjin Jacobi International Trading Co. Ltd., and Jacobi Carbons Industry (Tianjin) are a single entity and, because there were no changes to the facts which supported that decision since that determination was made, we continue to find that these companies are part of a single entity for this administrative review. See Certain Activated Carbon From the People's Republic of China: Final Results and Partial Rescission of Third Antidumping Duty Administrative Review, 76 FR 67142 (October 31, 2011); Certain Activated Carbon From the People's Republic of China; 2010-2011; Certain Activated Carbon From the People's Republic of China; 2010-2011; Final Results of Antidumping Duty Administrative Review, 77 FR 67337, 67338 (November 9, 2012); Certain Activated Carbon From the People's Republic of China; 2011-2012; Final Results of Antidumping Duty Administrative Review, 78 FR 70533, 70535 (November 26, 2013); Certain Activated Carbon From the People's Republic of China: Final Results of Antidumping Duty Administrative Review; 2012-2013, 79 FR 70163, 70165 (November 25, 2014). Final Results of Antidumping Duty Administrative Review, 77 FR 67337, 67338 (November 9, 2012); Certain Activated Carbon From the People's Republic of China; 2011-2012; Final Results of Antidumping Duty Administrative Review, 78 FR 70533, 70535 (November 26, 2013); Certain Activated Carbon From the People's Republic of China: Final Results of Antidumping Duty Administrative Review; 2012-2013, 79 FR 70163, 70165 (November 25, 2014), and; Certain Activated Carbon From the People's Republic of China: Final Results of Antidumping Duty Administrative Review; 2013-2014, 80 FR 61172 (October 9, 2015) (“AR5 Final”). See also Preliminary Decision Memorandum.

¹⁹ In the first administrative review of the Order, the Department found that Beijing Pacific Activated Carbon Products Co., Ltd., Ningxia Guanghua Cherishmet Activated Carbon Co., Ltd., and Ningxia Guanghua Activated Carbon Co., Ltd. are a single entity and, because there were no changes to the facts which supported that decision since that determination, we continue to find that these companies are part of a single entity for this administrative review. See Certain Activated Carbon From the People's Republic of China: Notice of Preliminary Results of the Antidumping Duty Administrative Review and Extension of Time Limits for the Final Results, 74 FR 21317 (May 7, 2009), unchanged in First Administrative Review of Certain Activated Carbon From the People's Republic of China: Final Results of Antidumping Duty Administrative Review, 74 FR 57995 (November 10, 2009); and Certain Activated Carbon From the People's Republic of China: Final Results of Antidumping Duty Administrative Review, 2011-2012, 78 FR 70533 (November 26, 2013) at footnote 33; Certain Activated Carbon From the People's Republic of China: Final Results of Antidumping Duty Administrative Review; 2012-2013, 79 FR 70163, 70165 (November 25, 2014), and AR5 Final. See also Preliminary Decision Memorandum.

²⁰ Two companies, Beijing Embrace Technology Co. Ltd. (“Beijing Embrace”) and Shanxi Carbon Industry Co., Ltd. (“Shanxi Carbon”), did not establish eligibility for a separate rate because Beijing Embrace and Shanxi Carbon failed to provide a timely response to a separate rate application (“SRA”) or to a supplemental questionnaire and 179 companies did not establish eligibility for a separate rate because they did not provide the Department with a response to a SRA or a separate rate certification (“SRC”). See Preliminary Decision Memorandum at 9.

²¹ See Antidumping Proceedings: Announcement of Change in Department Practice for Respondent Selection in Antidumping Duty Proceedings and Conditional Review of the Nonmarket Economy Entity in NME Antidumping Duty Proceedings, 78 FR 65963, 65969-70 (November 4, 2013).

²² See Certain Activated Carbon From the People's Republic of China: Final Results of Antidumping Duty Administrative Review; 2012-2013, 79 FR 70163, 70165 (November 25, 2014).

Assessment Rates

Pursuant to section 751(a)(2)(C) of the Act and 19 CFR 351.212(b), the Department has determined, and U.S. Customs and Border Protection (“CBP”) shall assess, antidumping duties on all appropriate entries covered by this review. The Department intends to issue assessment instructions to CBP 15 days after the publication date of these final results of this review.

For any individually examined respondent whose weighted-average dumping margin is above the de minimis threshold (i.e., 0.50 percent), the Department will calculate importer-specific ad valorem assessment rates on the basis of the ratio of the total amount of dumping calculated for the importer's examined sales and the total entered value of sales. Where either the respondent's weighted-average dumping margin is zero or de minimis, or an importer-specific ad valorem assessment rate is zero or de minimis, we will instruct CBP to liquidate the appropriate entries without regard to antidumping duties.

As the Department stated in the most recent administrative review,²³ we will continue to direct CBP to assess importer-specific assessment rates ²⁴ based on per-unit (i.e., per-kilogram) rates. Specifically, we calculated importer-specific, antidumping duty assessment rates on a per-unit rate basis by dividing the total amount of dumping for each importer by the total sales quantity of subject merchandise sold to that importer during the POR.

²³ See Certain Activated Carbon from the People's Republic of China: Final Results of Antidumping Duty Administrative Review; 2013-2014, 80 FR 61172, 61175 (October 9, 2015).

²⁴ See 19 CFR 351.212(b)(1).

Pursuant to a refinement in the Department's non-market economy (“NME”) practice, for sales that were not reported in the U.S. sales data submitted by companies individually examined during this review, the Department will instruct CBP to liquidate entries associated with those sales at the rate for the PRC-wide entity. In addition, if the Department determines that an exporter under review had no shipments of the subject merchandise, any suspended entries that entered under that exporter's case number (i.e., at that exporter's cash deposit rate) will be liquidated at the rate for the PRC-wide entity.²⁵

²⁵ For a full discussion of this practice, see Assessment Practice Refinement, 76 FR at 65694.

Cash Deposit Requirements

The following per-unit cash deposit requirements will be effective upon publication of the final results of this administrative review for all shipments of the subject merchandise from the PRC entered, or withdrawn from warehouse, for consumption on or after the publication date, as provided by section 751(a)(2)(C) of the Act: (1) For Jacobi, Datong, and the non-examined, separate rate respondents, the cash deposit rate will be equal to their weighted-average dumping margins established in the final results of this review; (2) for previously investigated or reviewed PRC and non-PRC exporters not listed above that have separate rates, the cash deposit rate will continue to be the exporter-specific rate published for the most recently completed segment of this proceeding in which they were reviewed; (3) for all PRC exporters of subject merchandise that have not been found to be entitled to a separate rate, the cash deposit rate will be equal to the weighted-average dumping margin for the PRC-wide entity (i.e., 2.42 USD/kg); and (4) for all non-PRC exporters of subject merchandise which have not received their own separate rate, the cash deposit rate will be the rate applicable to the PRC exporter(s) that supplied that non-PRC exporter. These per-unit cash deposit requirements, when imposed, shall remain in effect until further notice.

Disclosure

We intend to disclose the calculations performed within five days of the date of publication of this notice to parties in this proceeding in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of double antidumping duties.

Notification Regarding Administrative Protective Order

This notice also serves as a reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review and notice in accordance with sections 751(a)(1) and 777(i) of the Act.

Dated: August 31, 2016.
Paul Piquado,
Assistant Secretary for Enforcement and Compliance.

Appendix I

Issues and Decision Memorandum

Summary

Background

Scope of the Order

Changes Since the Preliminary Results

Discussion of the Issues

Comment 1: Value Added Tax (“VAT”) and Entered Value

Comment 2: Surrogate Country Selection

Comment 3: Anthracite Coal Surrogate Value

Comment 4: Whether to Account for In-Bound Freight for the Anthracite Coal Surrogate Value

Comment 5: Carbonized Material Surrogate Value

Comment 6: Hydrochloric Acid (“HCl”) Surrogate Value

Comment 7: Labor

Comment 8: Coal Tar Surrogate Value

Comment 9: Brokerage and Handling Surrogate Value

Comment 10: Financial Statements Selection

Comment 11: Whether the Department Should Treat Sales Through Datong Juqiang Activated Carbon USA LLC (“DJAC USA”) as Export Price (“EP”) Sales

Comment 12: The Proper Basis for the Calculation of U.S. Duty Expenses

Comment 13: U.S. CBP Entries Incorrectly Attributed to Datong Juqiang

Comment 14: Whether Jacobi's Purchased Carbonized Materials are Correctly Valued

Comment 15: Whether to Cap Jacobi's U.S. Freight Revenue

Recommendation

Appendix II

Companies Not Establishing Eligibility for a Separate Rate and Treated as Part of PRC-Wide Entity
Company name
1 AmeriAsia Advanced Activated Carbon Products Co., Ltd.
2 Anhui Handfull International Trading (Group) Co., Ltd.
3 Anhui Hengyuan Trade Co. Ltd.
4 Anyang Sino-Shon International Trading Co., Ltd.
5 Baoding Activated Carbon Factory.
6 Beijing Broad Activated Carbon Co., Ltd.
7 Beijing Embrace Technology Co. Ltd.
8 Beijing Haijian Jiechang Environmental Protection Chemicals.
9 Beijing Hibridge Trading Co., Ltd.
10 Bengbu Jiuton Trade Co. Ltd.
11 Carbon Activated Tianjin Co., Ltd.
12 Changji Hongke Activated Carbon Co., Ltd.
13 Chengde Jiayu Activated Carbon Factory.
14 China National Building Materials and Equipment Import and Export Corp.
15 China National Nuclear General Company Ningxia Activated Carbon Factory.
16 China Nuclear Ningxia Activated Carbon Plant.
17 China SDIC International Trade Co., Ltd.
18 Da Neng Zheng Da Activated Carbon Co., Ltd.
19 Datong Carbon Corporation.
20 Datong Changtai Activated Carbon Co., Ltd.
21 Datong City Zuoyun County Activated Carbon Co., Ltd.
22 Datong Fenghua Activated Carbon.
23 Datong Forward Activated Carbon Co., Ltd.
24 Datong Fuping Activated Carbon Co. Ltd.
25 Datong Guanghua Activated Co., Ltd.
26 Datong Hongtai Activated Carbon Co., Ltd.
27 Datong Huanqing Activated Carbon Co., Ltd.
28 Datong Huaxin Activated Carbon.
29 Datong Huibao Activated Carbon Co., Ltd.
30 Datong Huibao Active Carbon Co., Ltd.
31 Datong Huiyuan Cooperative Activated Carbon Plant.
32 Datong Kaneng Carbon Co. Ltd.
33 Datong Locomotive Coal & Chemicals Co., Ltd.
34 Datong Tianzhao Activated Carbon Co., Ltd.
35 DaTong Tri-Star & Power Carbon Plant.
36 Datong Weidu Activated Carbon Co., Ltd.
37 Datong Xuanyang Activated Carbon Co., Ltd.
38 Datong Zuoyun Biyun Activated Carbon Co., Ltd.
39 Datong Zuoyun Fu Ping Activated Carbon Co., Ltd.
40 Dongguan Baofu Activated Carbon.
41 Dongguan SYS Hitek Co., Ltd.
42 Dushanzi Chemical Factory.
43 Fijian Zhixing Activated Carbon Co., Ltd.
44 Fu Yuan Activated Carbon Co., Ltd.
45 Fujian Jianyang Carbon Plant.
46 Fujian Nanping Yuanli Activated Carbon Co., Ltd.
47 Fujian Xinsen Carbon Co., Ltd.
48 Fujian Yuanli Active Carbon Co., Ltd.
49 Fuzhou Taking Chemical.
50 Fuzhou Yihuan Carbon.
51 Great Bright Industrial.
52 Hangzhou Hengxing Activated Carbon.
53 Hangzhou Hengxing Activated Carbon Co., Ltd.
54 Hangzhou Linan Tianbo Material (HSLATB).
55 Hangzhou Nature Technology.
56 Hangzhou Waterland Environment Technologies Co., Ltd.
57 Hebei Foreign Trade and Advertising Corporation.
58 Hebei Shenglun Import & Export Group Company.
59 Hegongye Ninxia Activated Carbon Factory.
60 Heilongjiang Provincial Hechang Import & Export Co., Ltd.
61 Hongke Activated Carbon Co., Ltd.
62 Huaibei Environment Protection Material Plant.
63 Huairen Huanyu Purification Material Co., Ltd.
64 Huairen Jinbei Chemical Co., Ltd.
65 Huaiyushan Activated Carbon Group.
66 Huatai Activated Carbon.
67 Huzhou Zhonglin Activated Carbon.
68 Inner Mongolia Taixi Coal Chemical Industry Limited Company.
69 Itigi Corp. Ltd.
70 J&D Activated Carbon Filter Co. Ltd.
71 Jiangle County Xinhua Activated Carbon Co., Ltd.
72 Jiangsu Taixing Yixin Activated Carbon Technology Co., Ltd.
73 Jiangxi Hanson Import Export Co.
74 Jiangxi Huaiyushan Activated Carbon.
75 Jiangxi Huaiyushan Activated Carbon Group Co.
76 Jiangxi Huaiyushan Suntar Active Carbon Co., Ltd.
77 Jiangxi Jinma Carbon.
78 Jiangxi Yuanli Huaiyushan Active Carbon Co., Ltd.
79 Jianou Zhixing Activated Carbon.
80 Jiaocheng Xinxin Purification Material Co., Ltd.
81 Jilin Province Bright Future Industry and Commerce Co., Ltd.
82 Jing Mao (Dongguan) Activated Carbon Co., Ltd.
83 Kaihua Xingda Chemical Co., Ltd.
84 Kemflo (Nanjing) Environmental Tech.
85 Keyun Shipping (Tianjin) Agency Co., Ltd.
86 Kunshan Actview Carbon Technology Co., Ltd.
87 Langfang Winfield Filtration Co.
88 Link Shipping Limited.
89 Longyan Wanan Activated Carbon.
90 Meadwestvaco (China) Holding Co., Ltd.
91 Mindong Lianyi Group.
92 Nanjing Mulinsen Charcoal.
93 Nantong Ameriasia Advanced Activated Carbon Product Co., Ltd.
94 Ningxi Baiyun Carbon Co., Ltd.
95 Ningxia Baota Activated Carbon Co., Ltd.
96 Ningxia Baota Active Carbon Plant.
97 Ningxia Blue-White-Black Activated Carbon (BWB).
98 Ningxia Fengyuan Activated Carbon Co., Ltd.
99 Ningxia Guanghua Chemical Activated Carbon Co., Ltd.
100 Ningxia Haoqing Activated Carbon Co., Ltd.
101 Ningxia Henghui Activated Carbon.
102 Ningxia Honghua Carbon Industrial Corporation.
103 Ningxia Huinong Xingsheng Activated Carbon Co., Ltd.
104 Ningxia Jirui Activated Carbon.
105 Ningxia Lingzhou Foreign Trade Co., Ltd.
106 Ningxia Luyuangheng Activated Carbon Co., Ltd.
107 Ningxia Pingluo County Yaofu Activated Carbon Plant.
108 Ningxia Pingluo Xuanzhong Activated Carbon Co., Ltd.
109 Ningxia Pingluo Yaofu Activated Carbon Factory.
110 Ningxia Taixi Activated Carbon.
111 Ningxia Tianfu Activated Carbon Co., Ltd.
112 Ningxia Weining Active Carbon Co., Ltd.
113 Ningxia Xingsheng Coal and Active Carbon Co., Ltd.
114 Ningxia Xingsheng Coke & Activated Carbon Co., Ltd.
115 Ningxia Yinchuan Lanqiya Activated Carbon Co., Ltd.
116 Ningxia Yirong Alloy Iron Co., Ltd.
117 Ningxia Zhengyuan Activated.
118 Ningzxia Guanghua A/C Co., Ltd.
119 Ninxia Tongfu Coking Co., Ltd.
120 Nuclear Ningxia Activated Carbon Co., Ltd.
121 OEC Logistic Qingdao Co., Ltd.
122 OEC Logistics Co., Ltd. (Tianjin).
123 Panshan Import and Export Corporation.
124 Pingluo Xuanzhong Activated Carbon Co., Ltd.
125 Pingluo Yu Yang Activated Carbon Co., Ltd.
126 Shanghai Activated Carbon Co., Ltd.
127 Shanghai Astronautical Science Technology Development Corporation.
128 Shanghai Coking and Chemical Corporation.
129 Shanghai Goldenbridge International.
130 Shanghai Jiayu International Trading (Dezhou Jiayu and Chengde Jiayu).
131 Shanghai Jinhu Activated Carbon (Xingan Shenxin and Jiangle Xinhua).
132 Shanghai Light Industry and Textile Import & Export Co., Ltd.
133 Shanghai Mebao Activated Carbon.
134 Shanghai Xingchang Activated Carbon.
135 Shanxi Blue Sky Purification Material Co., Ltd.
136 Shanxi Carbon Industry Co., Ltd.
137 Shanxi Newtime Co., Ltd.
138 Shanxi Qixian Foreign Trade Corporation.
139 Shanxi Qixian Hongkai Active Carbon Goods.
140 Shanxi Supply and Marketing Cooperative.
141 Shanxi Tianli Ruihai Enterprise Co.
142 Shanxi U Rely International Trade.
143 Shanxi Xiaoyi Huanyu Chemicals Co., Ltd.
144 Shanxi Xinhua Activated Carbon Co., Ltd.
145 Shanxi Xinhua Chemical Co., Ltd. (formerly Shanxi Xinhua Chemical Factory).
146 Shanxi Xinhua Protective Equipment.
147 Shanxi Xinshidai Import Export Co., Ltd.
148 Shanxi Xuanzhong Chemical Industry Co., Ltd.
149 Shanxi Zuoyun Yunpeng Coal Chemistry.
150 Shenzhen Sihaiweilong Technology Co.
151 Shijiazhuang Xinshuang Trade Co., Ltd.
152 Sincere Carbon Industrial Co. Ltd.
153 Taining Jinhu Carbon.
154 Taiyuan Hengxinda Trade Co., Ltd.
155 Tangshan Solid Carbon Co., Ltd.
156 Tianchang (Tianjin) Activated Carbon.
157 Tianjin Century Promote International Trade Co., Ltd.
158 Tonghua Bright Future Activated Carbon Plant.
159 Tonghua Xinpeng Activated Carbon Factory.
160 Top One International Trading Co., Ltd.
161 Triple Eagle Container Line.
162 Uniclear New-Material Co., Ltd.
163 United Manufacturing International (Beijing) Ltd.
164 Valqua Seal Products (Shanghai) Co.
165 VitaPac (HK) Industrial Ltd.
166 Wellink Chemical Industry.
167 Xi Li Activated Carbon Co., Ltd.
168 Xi'an Shuntong International Trade & Industrials Co., Ltd.
169 Xiamen All Carbon Corporation.
170 Xingan County Shenxin Activated Carbon Factory.
171 Xinhua Chemical Company Ltd.
172 Xuanzhong Chemical Industry.
173 Yangyuan Hengchang Active Carbon.
174 Yicheng Logistics.
175 Yinchuan Lanqiya Activated Carbon Co., Ltd.
176 Zhejiang Quizhou Zhongsen Carbon.
177 Zhejiang Topc Chemical Industry Co.
178 Zhejiang Xingda Activated Carbon Co., Ltd.
179 Zhejiang Yun He Tang Co., Ltd.
180 Zhuxi Activated Carbon.
181 Zuoyun Bright Future Activated Carbon Plant.

[FR Doc. 2016-21660 Filed 9-7-16; 8:45 am]

BILLING CODE 3510-DS-P